DEPARTMENT OF JUSTICE

Notice of Lodging of Proposed Consent Decree Under the Clean Air Act

On September 13, 2013, the Department of Justice lodged a proposed Consent Decree in United States and San Joaquin Valley Unified Air Pollution Control District v. Post Holdings, Inc. and Ralcorp Holdings, Inc, Civil Action No. 1:13-cv-01482, with the United States District Court for the Eastern District of California, Fresno Division.

The proposed Consent Decree resolves the claims of the United States and the San Joaquin Valley Unified Air Pollution Control District (the “Air District”) against Post Holdings, Inc. and Ralcorp Holdings, Inc. for violations of the Clean Air Act, 42 U.S.C. 7413, and the federally enforceable California state implementation plan. The plaintiffs alleged that defendants' cereal manufacturing facility in Modesto, California operated without the appropriate permits and pollution controls. Under the Consent Decree, defendants will pay a civil penalty of $635,000 ($317,500 shall be paid to the United States; $317,500 shall be paid to the Air District); shall operate and maintain the facility's pollution control equipment as specified; and shall comply with recordkeeping and monitoring requirements.

The publication of this notice opens a period for public comment on the Consent Decree. Comments should be addressed to the Assistant Attorney General, Environment and Natural Resources Division, and should refer to United States and San Joaquin Valley Unified Air Pollution Control District v. Post Holdings, Inc. and Ralcorp Holdings, Inc., D.J. Ref. No. 90-5-2-1-10136. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, D.C. 20044-7611.

During the public comment period, the Consent Decree may be examined and downloaded at this Justice Department Web site: http://www.usdoj.gov/enrd/Consent_Decrees.html. We will provide a paper copy of the Consent Decree upon written request and payment of reproduction costs. Please mail your request and payment to: Consent Decree Library, U.S. DOJ—ENRD, P.O. Box 7611, Washington, DC 20044-7611.

Please enclose a check or money order for $9.75 (25 cents per page reproduction cost) payable to the United States Treasury.

Henry S. Friedman,
Assistant Section Chief, Environmental Enforcement Section, Environment and Natural Resources Division.

[FR Doc. 2013-22808 Filed 9-18-13; 8:45 am]

BILLING CODE 4410-15-P